DEPARTMENT OF ENERGY

Federal Energy Regulatory Commission

[Docket No. RP03-234-000]

TransColorado Gas Transmission Company; Notice of Proposed Changes in FERC Gas Tariff

January 15, 2003.

Take notice that on January 13, 2003, TransColorado Gas Transmission Company (TransColorado) tendered for filing as part of its FERC Gas Tariff, Original Volume No. 1, the following tariff sheets, to be effective February 12, 2003:

Seventh Revised Sheet No. 200

Third Revised Sheet No. 265

TransColorado states that the purpose of this filing is to add a new section 27 to the General Terms and Conditions (GT&C) of TransColorado's FERC Gas Tariff addressing the use of offsystem capacity acquired by TransColorado and a waiver of the Commission's “shipper must have title” requirement.

TransColorado states that a copy of this filing has been served upon all of its customers and affected state commissions.

Any person desiring to be heard or to protest said filing should file a motion to intervene or a protest with the Federal Energy Regulatory Commission, 888 First Street, NE., Washington, DC 20426, in accordance with sections 385.214 or 385.211 of the Commission's rules and regulations. all such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: January 27, 2003.

Magalie R. Salas,
Secretary.

[FR Doc. 03-1735 Filed 1-24-03; 8:45 am]

BILLING CODE 6717-01-P